FEDERAL COMMUNICATIONS COMMISSION

Sunshine Act Meeting; Deletion of Agenda Item from January 20, 2010, Open Meeting

Date: January 15, 2010.

The following item has been deleted from the list of Agenda items scheduled for consideration at the January 20, 2010, Open Meeting and previously listed in the Commission's Notice of January 13, 2010. This item has been adopted by the Commission.

ITEM NO. | BUREAU | SUBJECT
2 | WIRELESS TELE- COMMUNICATIONS | TITLE: Amendment of Parts 15, 74 and 90 of the Commission's Rules Regarding Low Power Auxiliary Stations, Including Wireless Microphones (WT Docket No. 08-166) SUMMARY: The Commission will consider an Order and Further Notice of Proposed Rulemaking to complete an important component of the DTV transition by prohibiting the further distribution and sale of devices that operate in the 700 MHz frequency and setting a date by which existing devices must clear the band to enable the rollout of public safety services and accelerate the deployment of next generation wireless networks.

Federal Communications Commission.
Marlene H. Dortch,
Secretary, Office of the Secretary, Office of Managing Director.

[FR Doc. 2010-1200 Filed 1-19-10; 4:15 pm]

BILLING CODE 6712-01-S